DEPARTMENT OF DEFENSE

Department of the Navy

Notice of Intent To Prepare an Environmental Impact Statement for the U.S. Marine Corps Grow the Force Initiative (or GTF) at Marine Corps Base Camp Lejeune, Marine Corps Air Station New River, and Marine Corps Air Station Cherry Point, NC

AGENCY: Department of the Navy; DoD.

ACTION: Notice.

SUMMARY: Pursuant to section (102)(2)(c) of the National Environmental Policy Act (NEPA) of 1969, as implemented by the Council on Environmental Quality Regulations (40 Code of Federal Regulations parts 1500-1508) and U.S. Marine Corps (USMC) NEPA implementing regulations in Marine Corps Order P5090.2A, the USMC announces its intent to prepare an Environmental Impact Statement (EIS) to evaluate the potential environmental consequences that may result from the permanent assignment of approximately 9,900 additional Marines and support service personnel at three installations in North Carolina: Marine Corps Base Camp Lejeune (MCBCL) and Marine Corps Air Station New River (MCASNR) in Jacksonville and Marine Corps Air Station Cherry Point (MCASCP) in Havelock.

The proposed action includes incremental permanent personnel increases at existing USMC installations. By Fiscal Year (FY) 2011 MCBCL, MCASNR, and MCASCP personnel (military and civilian) increases are expected to be approximately 7,700 (MCBCL), 1,400 (MCASNR), and 800 (MCASCP). Alternatives to be examined in the EIS may consist of alternative sitting locations on these installations for new facility construction, renovation and use of existing facilities, or a combination of both new and existing facilities. The no-action alternative, of not permanently basing these Marines and associated personnel, will also be examined.

The USMC is initiating the scoping process with this notice of intent. Scoping assists the USMC in identifying community concerns and local issues related to the proposed action.

DATES: Three open house scoping meetings will be held in the Jacksonville and Havelock regional area from 4 p.m. to 7 p.m. on the following dates and locations:

(1) Tuesday, January 29, 2008, Havelock Tourist and Event Center, 201 Tourist Center Drive, Havelock, NC.

(2) Wednesday, January 30, 2008, Coastal Carolina Community College, 444 Western Boulevard, Jacksonville, NC.

(3) Thursday, January 31, 2008, Dixon High School, 160 Dixon School Road, Holly Ridge, NC.

ADDRESSES: Federal, state, and local agencies, and interested groups and persons are encouraged to attend the scoping open house meetings. All are encouraged to provide comments on the proposed action either at the scoping meetings or by mail, postmarked no later than February 3, 2008 to ensure proper consideration in the EIS to the following address: Mr. Michael H. Jones, Naval Facilities Engineering Command Mid-Atlantic, Code BMEV31 Building C, Room 3012, 6506 Hampton Blvd, Norfolk, VA 23508-1278.

FOR FURTHER INFORMATION CONTACT: Mr. Michael H. Jones, 757-322-4942. Please submit requests for special assistance, sign language interpretation for the hearing impaired or other auxiliary aids at the public meeting to Mr. Jones by January 8, 2008.

SUPPLEMENTARY INFORMATION: In January 2007, the President of the United States, on the recommendation of the Secretary of Defense, announced that the Marine Corps would increase its end strength from approximately 180,000 to 202,000 by 2011. This increase is needed to provide adequate time to recover between deployments, train to meet combat readiness, and prepare for redeployment. The purpose of the proposed action is to ensure that Marines are properly prepared and trained for existing combat and homeland protection missions and future conflicts.

The Marine Corps uses the Total Force Structure Process (TFSP) to transform strategic guidance, policy constraints, and commander-generated recommendations into the integrated capabilities required to execute Marine Corps missions. The TFSP relies on a detailed, integrated examination of doctrine, organization, training, material, leadership, personnel, and facilities, ensuring that no aspect of the enterprise is ignored when new requirements for the Corps are identified. In order to meet the purpose and need, the proposed action of increasing the Marine Corps must be expedited while not compromising the current Marine Corps missions. Existing force structure and organization would be maintained in order to not further complicate, retard, or jeopardize the Marine Corps mission. The proposed action accomplishes this by augmenting existing units with Marines possessing the appropriate skill sets. These existing units are already established at current Marine Corps bases. Consequently, alternative bed-down locations to the proposed action are not feasible because they would not meet the purpose and need of the proposed action.

Specifically, the EIS will evaluate the potential environmental effects of the proposed action at the three installations on the following resources: Land; water resources (e.g., wetlands and coastal zones); natural resources, including threatened and endangered species; air; earth resources (e.g., soils and geology); visual resources, and cultural resources. Issues and activities that will be addressed include: Hazardous materials and hazardous waste; noise; recreation; transportation; socioeconomics; and environmental justice. Other resources, activities, and issues as identified through the scoping process will be included in the EIS and the analysis will evaluate both direct and indirect impacts, and account for cumulative impacts from other past, present, and reasonably foreseeable future actions in the Jacksonville and Havelock, NC regional area.

The USMC values the good relationship between its three installations in eastern NC and the surrounding communities, and will work closely with community stakeholders to assess the potential impacts of the proposed action on traffic and other transportation issues; stormwater and other environmental concerns; population increases and the related concerns with respect to schools, child care, and other quality of life issues; and other potential impacts that may be identified.

Dated: December 10, 2007.
T.M. Cruz,
Lieutenant, Office of the Judge Advocate General, U.S. Navy, Administrative Law Division, Federal Register Liaison Officer.

[FR Doc. E7-24234 Filed 12-13-07; 8:45 am]

BILLING CODE 3810-FF-P